DEPARTMENT OF ENERGY

Federal Energy Regulatory Commission

Combined Notice of Filings

Take notice that the Commission has received the following Natural Gas Pipeline Rate and Refund Report filings:

Filings Instituting Proceedings

Docket Numbers: CP21-489-000.

Applicants: Carlsbad Gateway, LLC.

Description: Abbreviated Application of Carlsbad Gateway, LLC For Part 284 Blanket Certificate Authorization and Temporary Waivers.

Filed Date: 8/31/21.

Accession Number: 20210831-5056.

Comment Date: 5 p.m. ET 9/21/21.

Docket Numbers: PR21-62-000.

Applicants: Black Hills/Kansas Gas Utility Company, LLC.

Description: Submits tariff filing per 284.123(b),(e)/: BHKG Revised Statement of Rates and SOC to be effective 8/1/2021.

Filed Date: 8/30/21.

Accession Number: 20210830-5123.

Comments/Protests Due: 5 p.m. ET 9/20/21.

Docket Numbers: RP21-1067-000.

Applicants: TransColorado Gas Transmission Company LLC.

Description: § 4(d) Rate Filing: Quarterly Update Fuel Gas and LU Reimbursement Fling to be effective 10/1/2021.

Filed Date: 8/31/21.

Accession Number: 20210831-5039.

Comment Date: 5 p.m. ET 9/13/21.

Docket Numbers: RP21-1068-000.

Applicants: Carolina Gas Transmission, LLC.

Description: Compliance filing: CGT—2021 Penalty Crediting Sharing Report to be effective N/A.

Filed Date: 8/31/21.

Accession Number: 20210831-5044.

Comment Date: 5 p.m. ET 9/13/21.

Docket Numbers: RP21-1069-000.

Applicants: Florida Gas Transmission Company, LLC.

Description: § 4(d) Rate Filing: Fuel Filing on 8-31-21 to be effective 10/1/2021.

Filed Date: 8/31/21.

Accession Number: 20210831-5051.

Comment Date: 5 p.m. ET 9/13/21.

Docket Numbers: RP21-1070-000.

Applicants: Northern Natural Gas Company.

Description: § 4(d) Rate Filing: 20210831 Negotiated Rate to be effective 9/1/2021.

Filed Date: 8/31/21.

Accession Number: 20210831-5058.

Comment Date: 5 p.m. ET 9/13/21.

Docket Numbers: RP21-1071-000.

Applicants: WBI Energy Transmission, Inc.

Description: § 4(d) Rate Filing: 2021 Semi-annual Fuel & Electric Power Reimbursement Adjustment to be effective 10/1/2021.

Filed Date: 8/31/21.

Accession Number: 20210831-5064.

Comment Date: 5 p.m. ET 9/13/21.

Docket Numbers: RP21-1072-000.

Applicants: MarkWest Pioneer, L.L.C.

Description: § 4(d) Rate Filing: Quarterly Fuel Adjustment Filing to be effective 10/1/2021.

Filed Date: 8/31/21.

Accession Number: 20210831-5065.

Comment Date: 5 p.m. ET 9/13/21.

Docket Numbers: RP21-1073-000.

Applicants: Gulf South Pipeline Company, LLC.

Description: § 4(d) Rate Filing: Cap Rel Neg Rate Agmts (Atlanta Gas 8438 releases eff 9-1-2021) to be effective 9/1/2021.

Filed Date: 8/31/21.

Accession Number: 20210831-5068.

Comment Date: 5 p.m. ET 9/13/21.

Docket Numbers: RP21-1074-000.

Applicants: Gulf South Pipeline Company, LLC.

Description: § 4(d) Rate Filing: Cap Rel Neg Rate Agmt (Constellation re-release eff 9-1-2021) to be effective 9/1/2021.

Filed Date: 8/31/21.

Accession Number: 20210831-5074.

Comment Date: 5 p.m. ET 9/13/21.

Docket Numbers: RP21-1075-000.

Applicants: Tennessee Gas Pipeline Company, L.L.C.

Description: § 4(d) Rate Filing: PAL NRA Engie SP370094, Hartree SP370073 & JP Morgan SP370134 to be effective 9/1/2021.

Filed Date: 8/31/21.

Accession Number: 20210831-5079.

Comment Date: 5 p.m. ET 9/13/21.

Docket Numbers: RP21-1076-000.

Applicants: El Paso Natural Gas Company, L.L.C.

Description: § 4(d) Rate Filing: Negotiated Rate Agreement Update (SRP_Sep 21) to be effective 9/1/2021.

Filed Date: 8/31/21.

Accession Number: 20210831-5088.

Comment Date: 5 p.m. ET 9/13/21.

Docket Numbers: RP21-1077-000.

Applicants: MoGas Pipeline LLC.

Description: § 4(d) Rate Filing: MoGas Pipeline Annual Fuel Tracker Filing to be effective 10/1/2021.

Filed Date: 8/31/21.

Accession Number: 20210831-5108.

Comment Date: 5 p.m. ET 9/13/21.

Docket Numbers: RP21-1078-000.

Applicants: Transcontinental Gas Pipe Line Company, LLC.

Description: § 4(d) Rate Filing: 2021 ACA Tracker Filing—GSS. LSS, SS-2 & S-2 to be effective 10/1/2021.

Filed Date: 8/31/21.

Accession Number: 20210831-5133.

Comment Date: 5 p.m. ET 9/13/21.

Docket Numbers: RP21-1079-000.

Applicants: Kinder Morgan Louisiana Pipeline LLC.

Description: Compliance filing: Arcadiana Fuel Filing to be effective 10/1/2021.

Filed Date: 8/31/21.

Accession Number: 20210831-5147.

Comment Date: 5 p.m. ET 9/13/21.

Docket Numbers: RP21-1080-000.

Applicants: Transcontinental Gas Pipe Line Company, LLC.

Description: § 4(d) Rate Filing: Negotiated Rates—Cherokee AGL—Replacement Shippers—Sep 2021 to be effective 9/1/2021.

Filed Date: 8/31/21.

Accession Number: 20210831-5164.

Comment Date: 5 p.m. ET 9/13/21.

Docket Numbers: RP21-1081-000.

Applicants: Southern Natural Gas Company, L.L.C.

Description: § 4(d) Rate Filing: Dalton Negotiated Rate to be effective 10/1/2021.

Filed Date: 8/31/21.

Accession Number: 20210831-5166.

Comment Date: 5 p.m. ET 9/13/21.

Docket Numbers: RP21-1082-000.

Applicants: Rockies Express Pipeline LLC.

Description: § 4(d) Rate Filing: REX 2021-08-31 Negotiated Rate Agreements to be effective 9/1/2021.

Filed Date: 8/31/21.

Accession Number: 20210831-5216.

Comment Date: 5 p.m. ET 9/13/21.

Docket Numbers: RP21-1083-000.

Applicants: El Paso Natural Gas Company, L.L.C.

Description: § 4(d) Rate Filing: Non-Conforming Agreements Filing (El Paso Electric) to be effective 10/1/2021.

Filed Date: 8/31/21.

Accession Number: 20210831-5219.

Comment Date: 5 p.m. ET 9/13/21.

Docket Numbers: RP21-1084-000.

Applicants: Algonquin Gas Transmission, LLC.

Description: § 4(d) Rate Filing: Negotiated Rates—Various Releases eff 9-1-2021 to be effective 9/1/2021.

Filed Date: 9/1/21.

Accession Number: 20210901-5015.

Comment Date: 5 p.m. ET 9/13/21.

Docket Numbers: RP21-1085-000.

Applicants: Maritimes & Northeast Pipeline, L.L.C.

Description: § 4(d) Rate Filing: Negotiated Rates—Northern Utilities 210363 Releases eff 9-1-2021 to be effective 9/1/2021.

Filed Date: 9/1/21.

Accession Number: 20210901-5019.

Comment Date: 5 p.m. ET 9/13/21.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 1, 2021.
Debbie-Anne A. Reese,
Deputy Secretary.

[FR Doc. 2021-19374 Filed 9-3-21; 8:45 am]

BILLING CODE 6717-01-P